DEPARTMENT OF COMMERCE

National Oceanic and Atmospheric Administration

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday and Thursday, September 29-October 1, 2015, starting at 8:30 a.m. on each of the meeting days.

ADDRESSES: The meeting will be held at the Radisson Plymouth Harbor Hotel, 180 Water St, Plymouth, MA 02360; telephone: (508) 747-4900; fax: (508) 746-2609; or online at www.radisson.com/plymouth-hotel-ma-02360/maplyhar.

Council address: New England Fishery Management Council, 50 Water Street, Mill 2, Newburyport, MA 01950.

FOR FURTHER INFORMATION CONTACT: Thomas A. Nies, Executive Director, New England Fishery Management Council; phone: (978) 465-0492.

SUPPLEMENTARY INFORMATION:

Agenda

Tuesday, September 29, 2015

After introductions and any announcements, the Council meeting will open with the swearing-in of new and reappointed Council members by the Regional Administrator of NOAA's Greater Atlantic Regional Fisheries Office (GARFO). The full Council will then elect its 2015-16 officers to be followed by brief reports from the NEFMC Chairman and Executive Director, the GARFO Regional Administrator, the Northeast Fisheries Science Center and Mid-Atlantic Fishery Management Council liaisons, NOAA General Counsel and its Office of Law Enforcement, and representatives of the Atlantic States Marine Fisheries Commission, and U.S Coast Guard. Next, the public will have an opportunity to make brief comments on items that are relevant to Council business but otherwise not listed on the published agenda.

Following a break at 12 p.m., the NEFMC will receive reports from its oversight committees. The Atlantic Herring Committee will provide recommendations and the Council will take final action on the fishery's 2016-18 specifications. These will include an overfishing level (OFL) and acceptable biological catch (ABC) based on Scientific and Statistical Committee advice, quotas for each of the four Atlantic herring management areas as well as monthly quota allocations, research set-asides, and annual gear/area-specific catch caps for river herring and shad. The day will conclude with the Council's Observer Committee report. This group will ask for approval of a Draft Environmental Assessment and draft omnibus amendment that would establish provisions for industry-funded monitoring (IFM) across all federally-managed fisheries in the Greater Atlantic region and address monitoring requirements on Atlantic herring vessels. Additionally, the discussion will include consideration of Observer Committee and Herring Committee recommendations regarding the inclusion of any additional management measures in the action, the selection of preferred alternatives, and approval of the Draft Omnibus IFM Amendment for public comment.

Wednesday, September 30, 2015

Wednesday's session will begin with the receipt of recommendations from the Council's Scientific and Statistical Committee on a Georges Bank yellowtail flounder OFL and ABC for fishing years 2016-17; and an ABC recommendation for the species in the Northeast skate complex for fishing years 2016-18. Next, a summary of the 2015 Transboundary Resources Assessment Committee's recent stock assessments for Eastern Georges Bank cod, Eastern Georges Bank haddock, and Georges Bank yellowtail flounder will be presented. This will be followed by a discussion of and a decision on the Transboundary Management Guidance Committee's (TMGC) recommendations for the 2016 quotas for these same stocks. The Council may also discuss other TMGC issues. The Council's Groundfish Committee report will follow and will contain a number of elements: (1) Final Council action on Amendment 18 to the Northeast Multispecies Fishery Management Plan (FMP), which focuses on accumulation limits and fleet diversity; (2) an update on the development of Framework Adjustment 55 to the Northeast Multispecies (Groundfish) Plan, which would set specifications for all groundfish stocks for fishing years 2016-18, and include the quotas for the three U.S./Canada stocks mentioned above for 2016 only; and (3) relative to Framework 55, consider including a proposal to establish a new sector in the groundfish fishery and possible changes that might streamline the current at-sea monitoring program.

Thursday, October 1, 2015

The final meeting day will begin with a briefing by Dr. Jason Link of NOAA Fisheries on the agency's Ecosystem-Based Fisheries Management Strategy. The Council's Habitat Committee will discuss the possibility of initiating a framework adjustment that would allow hydraulic clam dredging in some portions of the Great South Channel and the Georges Shoal Habitat Management Areas approved by the Council in Omnibus EFH Amendment 2 and review the status of and new information associated with the development of an Omnibus Deep-Sea Coral Amendment. A discussion of management priorities for 2016 will occur just prior to a lunch break.

After the break, the Scallop Committee will ask the Council to identify preferred alternatives in Amendment 19 to the Sea Scallop FMP. The action is intended to expedite the implementation date of the sea scallop fishery specifications each year. An update on the development of fishing year 2016 specifications and default measures for fishing year 2017 is also scheduled. The Council will spend the remainder of the day on its Small Mesh Multispecies Program and the Northeast skate complex. During the Small Mesh Program agenda item the Council will: (1) Receive a summary of the annual monitoring report for the three species in this group, red, silver, and offshore hake, all of which are managed via the Groundfish Plan; (2) consider an interim adjustment to the fishery specifications for red hake; and (3) review and approve a draft scoping document for Amendment 22 to the Groundfish Plan, which would address limited access in this fishery. During the skate discussion, the Council will receive an update on the status of the seven skate species in the complex and recent catches. A decision may also be made about initiating a framework adjustment that would allow the Skate Committee to take the lead in developing specifications for fishing years 2016-17.

Although other non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: September 10, 2015.
Tracey L. Thompson,
Acting Deputy Director, Office of Sustainable Fisheries, National Marine Fisheries Service.

[FR Doc. 2015-23107 Filed 9-14-15; 8:45 am]

BILLING CODE 3510-22-P